ENVIRONMENTAL PROTECTION AGENCY

40 CFR Part 52

[CA179-0243b; FRL-7022-6]

Revisions to the California State Implementation Plan, Kern County Air Pollution Control District and Imperial County Air Pollution Control District

AGENCY: Environmental Protection Agency (EPA).

ACTION: Proposed rule.

SUMMARY: EPA is proposing to approve revisions to the Kern County Air Pollution Control District (KCAPCD) and the Imperial County Air Pollution Control District (ICAPCD) portion of the California State Implementation Plan (SIP). These revisions concern general requirements for source sampling and continuous monitoring systems. We are proposing to approve local rules that address general requirements for source sampling and continuous monitoring systems under the Clean Air Act as amended in 1990 (CAA or the Act).

DATES: Any comments on this proposal must arrive by September 10, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814.

Kern County Air Pollution Control District, 2700 “M” Street, Suite 302, Bakersfield, CA 93301-2370.

Imperial County Air Pollution Control District, 150 South 9th Street, El Centro, CA 92243-2801.

FOR FURTHER INFORMATION CONTACT: Stanley Tong, Rulemaking Office (Air-4), U.S. Environmental Protection Agency, Region IX, (415) 744-1191.

SUPPLEMENTARY INFORMATION: This proposal addresses the following local rules: KCAPCD 108, KCAPCD 108.1, ICAPCD 109, and ICAPCD 110. In the Rules and Regulations section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: July 17, 2001.
Jane Diamond,
Acting Regional Administrator, Region IX.

[FR Doc. 01-20138 Filed 8-9-01; 8:45 am]

BILLING CODE 6560-50-P